DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by February 14, 2003.

Title, Form Number, and OMB Number: Candidate Procedures; USMA Forms 21-16, 21-23, 21-25, 21-26, 5-520, 5-518, FL 546, FL 481, 5-2, 5-26, 5-515, FL 480-1, FL 520, FL 261, 21-8, 21-14, 5-497; OMB Number 0702-0061.

Type of Request: Reinstatement.

Number of Respondents: 92,525.

Responses per Respondent: 1.

Annual Responses: 92,525.

Average Burden per Response: 225 minutes (average).

Annual Burden Hours: 11,720.

Needs and Uses: Candidates to the United States Military Academy (USMA) provide personal background information, which allows the West Point Admissions Committee to make subjective judgments on non-academic experiences. Data are also used by West Point Office of Institutional Research for correlation with success in graduation and military careers.

Affected Public: Individuals or households.

Frequency: On occasion.

Respondent's Obligation: Required to obtain or retain benefits.

OMB Desk Officer: Ms. Jacqueline Zeiher.

Written comments and recommendations on the proposed information collection should be sent to Ms. Zeiher, at the Office of Management and Budget, Desk Officer for DoD Health Affairs, Room 10235, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 8, 2003.
Patricia L. Toppings,
Alternate OSD Federal Register Liaison Officer, Department of Defense.

[FR Doc. 03-782 Filed 1-14-03; 8:45 am]

BILLING CODE 5001-08-M